ENVIRONMENTAL PROTECTION AGENCY

[FRL-7591-9]

Notice of Availability of Draft National Pollution Discharge Elimination System (NPDES) General Permit for Discharges at Hydroelectric Generating Facilities in the States of Massachusetts and New Hampshire and Indian Lands in the State of Massachusetts

AGENCY: Environmental Protection Agency (EPA).

ACTION: Notice of availability of Draft NPDES General Permits MAG360000 and NHG360000.

SUMMARY: The Director of the Office of Ecosystem Protection, Environmental Protection Agency-Region 1, is today providing notice of availability of the Draft National Pollutant Discharge Elimination System (NPDES) general permit for specific discharges at Hydroelectric Generating Facilities to certain waters of the States of Massachusetts and New Hampshire and Indian Lands in the State of Massachusetts. This draft general permit establishes Notice of Intent (NOI) requirements, effluent limitations, standards, prohibitions, and best management practices for classes of discharges at hydroelectric generating facilities.

Owners and/or operators of hydroelectric generating facilities with discharges, including those facilities currently authorized to discharge under individual NPDES permits, will be encouraged to submit an NOI to EPA-Region 1 to be covered by the general permit and will receive a written notification from EPA of permit coverage and authorization to discharge under one of the general permits. The eligibility requirements are discussed in detail in the fact sheet and in the general permit. This general permit does not cover new sources as defined under 40 CFR 122.2.

DATES: Comments must be received or postmarked by midnight on December 29, 2003. Interested persons may submit comments on the draft general permit as part of the administrative record to the EPA-Region 1 at the address given below. Within the comment period, interested persons may also request in writing a public hearing pursuant to 40 CFR 124.12 concerning the draft general permit. All public comments or requests for a public hearing must be submitted to the address below.

ADDRESSES: Written comments may be hand delivered or mailed to: EPA-Region 1, Office of Ecosystem Protection (CPE), 1 Congress Street, Suite 1100, Boston, Massachusetts 02114-2023 and also sent via e-mail to wandle.bill@ep.gov. No facsimiles (faxes) will be accepted. The draft permit is based on an administrative record available for public review at EPA-Region 1, Office of Ecosystem Protection (CPE), 1 Congress Street, Suite 1100, Boston, Massachusetts 02114-2023. Copies of information in the record are available upon request. A reasonable fee may be charged for copying.

FOR FURTHER INFORMATION CONTACT: Additional information concerning the draft permit may be obtained between the hours of 8 a.m. and 4 p.m. Monday through Friday excluding holidays from: William Wandle, Office of Ecosystem Protection, Environmental Protection Agency, 1 Congress Street, Suite 1100 (CPE), Boston, MA 02114—2023, telephone: 617-918-1605, email: wandle.bill@epa.gov.

SUPPLEMENTARY INFORMATION: The draft general permit may be viewed over the Internet via the EPA-Region 1 web site for dischargers in Massachusetts at http://www.epa.gov/ne/npdes/mass.html and for dischargers in New Hampshire at http://www.epa.gov/ne/npdes/newhampshire.html. The draft general permit includes the standard permit conditions in Part II, the Best Management Practices Plan in Part III, and the fact sheet which sets forth principal facts and the significant factual, legal, and policy questions considered in the development of the draft permit. To obtain a paper copy of the documents, please contact William Wandle using the contact information provided above. A reasonable fee may be charged for copying requests.

When the general permit is issued, the notice of final issuance will be published in the Federal Register. The general permit shall be effective on the date specified in the notice of final issuance of the general permit published in the Federal Register and it will expire five years from the effective date.

Dated: November 17, 2003.
Ira W. Leighton,
Acting Regional Administrator, Region 1.

[FR Doc. 03-29691 Filed 11-26-03; 8:45 am]

BILLING CODE 6560-50-P